ENVIRONMENTAL PROTECTION AGENCY

[FRL-11994-01-R6]

Clean Water Act Section 303(d): Availability of List Decisions

AGENCY: Environmental Protection Agency (EPA).

ACTION: Notice of availability.

SUMMARY: The Clean Water Act (CWA) requires that states periodically submit, and the Environmental Protection Agency (EPA) approve or disapprove, lists of waters (called “Section 303(d) lists”) for which existing technology- based pollution controls are not stringent enough to attain or maintain State water quality standards and for which total maximum daily loads (TMDLs) must be prepared. Waters identified on Section 303(d) lists are called “water quality-limited segments.” This notice describes the EPA's Decision Document, which identified certain additional water quality-limited segments for the Arkansas 2020 Section 303(d) list, and requests public comment on those additions.

DATES: Comments must be received on or before August 26, 2024.

ADDRESSES: You may send written comments to Mr. Richard Wooster by the following methods:

Electronic mail: wooster.richard@epa.gov. Include `FRL-comment' in the subject line of the message.

Mail: Mr. Richard Wooster, Mail Code R6WDPQ, U.S. Environmental Protection Agency Region 6, 1201 Elm St., Dallas, TX 75270.

FOR FURTHER INFORMATION CONTACT: Mr. Richard Wooster, Water Division Water Quality Protection Section, R6WDPQ, Environmental Protection Agency at wooster.richard@epa.gov or (214) 665-6473. Additional information regarding the basis for this EPA action is available at https://www.epa.gov/publicnotices.

SUPPLEMENTARY INFORMATION: Section 303(d) of the Clean Water Act requires that each state identify those water quality-limited segments for which existing technology-based pollution controls are not stringent enough to attain or maintain state water quality standards and for which total maximum daily loads (TMDLs) must be prepared. For each water quality-limited segment on the list, the state identifies the pollutant causing the impairment, when known. In addition, the state assigns a priority ranking for development of TMDLs based on the severity of the pollution and the uses to be made of the waters, among other factors (40 CFR 130.7(b)(4)).

The EPA's Water Quality Planning and Management regulations include requirements related to the implementation of Section 303(d) of the CWA (40 CFR 130.7). The regulations require states to assemble and evaluate all existing and readily-available water quality data and to use that data to identify water quality-limited segments still requiring TMDLs every two years. Where a state does not use certain data, it must provide a rationale. The list of waters still needing TMDL development must also include priority rankings and must identify the waters targeted for TMDL development during the next two years (40 CFR 130.7).

The EPA received Arkansas's submittal of its listing decisions under Section 303(d)(2) on June 2, 2022. On September 28, 2023, the EPA partially approved and partially disapproved Arkansas's 2020 Section 303(d) list of water quality-limited segments based upon the Agency's finding that Arkansas did not use certain water quality information and therefore did not identify certain water quality-limited segments based upon existing data and public input. The EPA analyzed the information and identified seven additional water quality-limited segments for inclusion on Arkansas's 2020 Section 303(d) list.

The EPA is providing the public an opportunity to review and comment on its identification of these water quality- limited segments for Arkansas's 2020 Section 303(d) list as required by 40 CFR 130.7(d)(2). The EPA will consider public comments and make any appropriate revisions before transmitting the list of water quality-limited segments to the State.

Troy C. Hill,
Director, Water Division.

[FR Doc. 2024-13414 Filed 6-18-24; 8:45 am]

BILLING CODE P